FEDERAL COMMUNICATIONS COMMISSION

47 CFR Part 73

[DA 01-2628; MM Docket No. 00-195; RM-9973, RM-10193, RM-10194]

Radio Broadcasting Services; Clinton and Oliver Springs, TN

AGENCY: Federal Communications Commission.

ACTION: Final rule.

SUMMARY: In response to a Notice of Proposed Rule Making, 65 FR 64924 (October 31, 2000), that proposed the allotment of Channel 291A to Clinton, Tennessee, this document grants a counterproposal to allot Channel 291A to Oliver Springs, Tennessee, and provides Oliver Springs with its first local competitive aural transmission service. The initial petition for rulemaking filed by Clyde Scott, Jr., D.B.A. EME Communications, that proposed allotting Channel 291A to Clinton as a fourth local aural transmission service, was denied. The coordinates for Channel 291A at Oliver Springs are 36-05-12 North Latitude and 84-21-25 West Longitude.

DATES: Effective December 24, 2001.

FOR FURTHER INFORMATION CONTACT: R. Barthen Gorman, Mass Media Bureau, (202) 418-2180.

SUPPLEMENTARY INFORMATION: This is a synopsis of the Commission's Report and Order, MM Docket No. 00-195, adopted October 31, 2001, and released November 9, 2001. The full text of this Commission decision is available for inspection and copying during normal business hours in the FCC's Reference Information Center at Portals II, 445 12th Street, SW., Room CY-A257, Washington, DC, 20554. The document may also be purchased from the Commission's duplicating contractor, Qualex International, Portals II, 445 12th Street, SW., Room CY-B402, Washington, DC, 20554, telephone 202 863-2893. facsimile 202 863-2898, or via e-mail qualexint@aol.com.

List of Subjects in 47 CFR Part 73

Radio broadcasting.

Part 73 of Title 47 of the Code of Federal Regulations is amended as follows:

PART 73—RADIO BROADCAST SERVICES

1.The authority citation for Part 73 reads as follows:

Authority: 47 U.S.C. 154, 303, 334, and 336.

§ 73.202 [Amended]

1. Section 73.202(b), the Table of FM Allotments under Tennessee, is amended by adding Channel 291A at Oliver Springs.

Federal Communications Commission.
John A. Karousos
Chief, Allocations Branch, Policy and Rules Division, Mass Media Bureau.

[FR Doc. 01-29871 Filed 11-30-01; 8:45 am]

BILLING CODE 6712-01-P